DEPARTMENT OF DEFENSE

Office of the Secretary

[Docket No. DoD-2010-OS-0082]

Information Collection; Comment Request

ACTION: Notice.

SUMMARY: The Department of Defense is submitting to OMB for emergency clearance, the following proposal for collection of information under the provisions of the Paperwork Reduction Act (44 U.S.C. Chapter 35). The Department of Defense Comprehensive Review Working Group (CRWG) is the working group the Secretary of Defense directed to examine the issues associated with a repeal of the law known as “Don't Ask, Don't Tell.” As part of this study, CRWG has requested that RAND update its report on “Sexual Orientation and U.S. Military Personnel Policy: Options and Assessment.” A shortened comment period of 5 days is necessary because the collection of information by RAND to update their report on sexual orientation in the military is needed prior to the submission of CRWG's report to the Secretary of Defense to inform its recommendations to the Secretary. RAND's report, therefore, must be finished by mid-September 2010. As RAND's report requires the collection of data from numerous different sources in a range of locations throughout the country and world, it is necessary to begin data collection procedures as earlier as possible in June, 2010.

DATES: Consideration will be given to all comments received by June 23, 2010.

Title and OMB Number: Police, Fire, Private-Sector Organizations and Colleges/Universities Interviews; OMB Control Number 0704-TBD.

Type of Request: New.

Police and Fire Interviews:

Number of Respondents: 70.

Responses per Respondent: 1.

Annual Responses: 70.

Average Burden per Response: 1 hour.

Annual Burden Hours: 70 hours.

Private-Sector Organizations and Colleges/Universities Interviews:

Number of Respondents: 20.

Responses per Respondent: 1.

Annual Responses: 20.

Average Burden Per Response: 1 hour.

Annual Burden Hours: 20 hours.

Needs and Uses: The Department of Defense Comprehensive Review Working Group (CRWG) is the working group the Secretary of Defense directed to examine the issues associated with a repeal of the law known as “Don't Ask, Don't Tell.” The CRWG is studying what impact, if any, repeal would have on military readiness, military effectiveness, unit cohesion, recruiting, retention, and family readiness. As part of these efforts, RAND was asked to update its report on sexual orientation in the military from 1993 and look at how repeal may impact the military. To give the broadest view of the potential impact repeal would have, RAND is talking with and studying a range of state government agencies and institutions, universities, and private companies. By talking to these groups, RAND will be able to give a better understanding of how, based on comparable experiences in other settings, repeal could impact the military. RAND's study is, therefore, an important piece CRWG's report to the Secretary of Defense that will also inform the writing of other sections of the final report.

Affected Public: Business of other for-profit; state, local or tribal government.

Frequency: One time.

Respondent's Obligation: Voluntary.

OMB Desk Officer: Ms. Jasmeet Seehra.

Written comments and recommendations on the proposed information collection should be sent to Ms. Seehra at the Office of Management and Budget, Desk Officer for DoD, Room 10236, New Executive Office Building, Washington, DC 20503.

You may also submit comments, identified by docket number and title, by the following method:

• Federal eRulemaking Portal: http://www.regulations.gov. Follow the instructions for submitting comments.

• Mail: Federal Docket Management System Office, 1160 Defense Pentagon, Room 3C843. Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this information collection, please write to Col. Donna Alberto, DoD Comprehensive Review Working Group, Crystal Mall 2, 1801 S. Bell St., Suite 409, Arlington, VA; or call (703) 602-2917.

Dated: June 14, 2010.
Mitchell S. Bryman,
Alternate OSD Federal Register Liaison Officer, Department of Defense.

[FR Doc. 2010-14745 Filed 6-17-10; 8:45 am]

BILLING CODE 5001-06-P